DEPARTMENT OF HEALTH AND HUMAN SERVICES

National Institutes of Health

Office of the Director, National Institutes of Health; Amended Notice of Meeting

Notice is hereby given of a change in the meeting of the Director's Council of Public Representatives, October 31-November 1, 2000, National Institutes of Health, 9000 Rockville Pike, Building 31, Conference Room 6, Bethesda, MD 20982 which was published in the Federal Register on October 10, 2000, 65 FR 60200-60201.

The dates, times, and location of the meeting are the same but the agenda has changed to discuss human research protections and medical applications research. The meeting is open to the public.

Dated: October 17, 2000.
LaVerne Y. Stringfield,
Director, Office of Federal Advisory Committee Policy.

[FR Doc. 00-27887 Filed 10-30-00; 8:45 am]

BILLING CODE 4140-01-M